DEPARTMENT OF ENERGY

Federal Energy Regulatory Commission

[Project No. 10828-007]

Fairfax County Water Authority; Notice of Availability of Final Environmental Assessment

October 29, 2009.

In accordance with the National Environmental Policy Act of 1969, as amended, and the Federal Energy Regulatory Commission's regulations, 18 CFR part 380 (Order No. 486, 52 FR 47879), the Commission has reviewed an application, filed January 15, 2009, to surrender the project license for the Occoquan River Hydroelectric Project, FERC Project No. 10828. The Environmental Assessment (EA) analyzes the environmental impacts of the proposed license surrender, decommissioning of hydroelectric facilities, and various dam safety related repairs, and concludes that approval of the application, with appropriate environmental measures, would not constitute a major federal action significantly affecting the quality of the human environment. The project is located on the Occoquan River in Prince William and Fairfax Counties, Virginia.

The EA was written by staff in the Office of Energy Projects, Federal Energy Regulatory Commission (Commission). A copy of the EA is attached to a Commission order titled “Order Modifying and Accepting Surrender of License” issued October 29, 2009, and is on file with the Commission and available for public inspections. The EA may also be viewed on the Commission's Web site at http://www.ferc.gov using the “eLibrary” link. Enter the docket number excluding the last three digits in the docket number field to access the document. For assistance, contact FERC Online Support at FERCOnlineSupport@ferc.gov or toll-free at 1-866-208-3372, or for TTY, (202) 502-8659.

Kimberly D. Bose,
Secretary.

[FR Doc. E9-26631 Filed 11-4-09; 8:45 am]

BILLING CODE 6717-01-P